DEPARTMENT OF TRANSPORTATION

Federal Aviation Administration

14 CFR Part 71

[Docket No. FAA-2010-0921; Airspace Docket No. 10-ASO-33]

Amendment and Revocation of Class E Airspace; Vero Beach, FL

AGENCY: Federal Aviation Administration (FAA), DOT.

ACTION: Final rule.

SUMMARY: This action amends Class E surface airspace, and airspace extending upward from 700 feet above the surface, and removes Class E airspace designated as an extension to Class D surface area at Vero Beach Municipal Airport, Vero Beach, FL. The Vero Beach Non-Directional Beacon (NDB) has been decommissioned and new Standard Instrument Approach Procedures (SIAPs) have been developed for the airport. This action also updates the geographic coordinates of the St. Lucie County International Airport to aid in the navigation of our National Airspace System.

DATES: Effective 0901 UTC, March 10, 2011. The Director of the Federal Register approves this incorporation by reference action under title 1, Code of Federal Regulations, part 51, subject to the annual revision of FAA Order 7400.9 and publication of conforming amendments.

FOR FURTHER INFORMATION CONTACT: Melinda Giddens, Operations Support Group, Eastern Service Center, Federal Aviation Administration, P. O. Box 20636, Atlanta, Georgia 30320; telephone (404) 305-5610.

SUPPLEMENTARY INFORMATION:

History

On October 26, 2010, the FAA published in the Federal Register a notice of proposed rulemaking to amend and remove Class E airspace at Vero Beach, FL (75 FR 65581) Docket No. FAA-2010-0921. Interested parties were invited to participate in this rulemaking effort by submitting written comments on the proposal to the FAA. No comments were received. During the comment period the FAA received a request from the National Aeronautical Navigation Services to update the geographic coordinates of the St. Lucie County International Airport, Fort Pierce, FL. This action makes the adjustment.

Class E airspace designated as surface areas, Class E airspace areas designated as an extension to a Class D surface area, and Class E airspace areas extending upward from 700 feet above the surface of the earth are published in paragraph 6002, 6004, and 6005, respectively, of FAA Order 7400.9U dated August 18, 2010, and effective September 15, 2010, which is incorporated by reference in 14 CFR Part 71.1. The Class E airspace designations listed in this document will be published subsequently in the Order.

The Rule

This amendment to Title 14, Code of Federal Regulations (14 CFR) part amends Class E airspace designated as surface area to remove any reference to the decommissioned Vero Beach NDB at Vero Beach Municipal Airport, Vero Beach, FL. This action also adds additional controlled airspace extending upward from 700 feet above the surface to accommodate new Standard Instrument Approach Procedures (SIAPs) at the airport, and removes Class E airspace designated as an extension to Class D surface area for Vero Beach Municipal Airport. Also, this action will update the geographic coordinates of the St. Lucie County International Airport, Fort Pierce, FL.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Vero Beach Municipal Airport, Vero Beach, FL, and corrects geographic coordinates for St. Lucie County International Airport, Fort Pierce, FL.

Lists of Subjects in 14 CFR Part 71

Airspace, Incorporation by reference, Navigation (Air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, effective September 15, 2010, is amended as follows:

Paragraph 6002 Class E airspace designated as surface areas.

* * * * *

ASO FL E2 Vero Beach, FL [AMENDED]

Vero Beach Municipal Airport, FL

(Lat. 27°39′20″ N., long. 80°25′05″ W.)

That airspace extending upward from the surface to and including 2,500 feet MSL within a 4.2 mile radius of the Vero Beach Municipal Airport. This Class E airspace area is effective during the specific dates and times established in advance by a Notice to Airmen. The effective date and time will thereafter be continuously purblished in the Airport/Facility Directory.

* * * * *

Class E airspace areas designated as an extension to a class D surface area.

* * * * *

ASO FL E4 Vero Beach, FL [REMOVED]

* * * * *

Class E airspace areas extending upward from 700 feet or more above the surface of the earth.

* * * * *

ASO FL E5 Vero Beach, FL [AMENDED]

Vero Beach Municipal Airport, FL

(Lat. 27°39′20″ N. long. 80°25′05″ W.)

Vero Beach VORTAC

(Lat. 27°40′42″ N., long. 80°29′23″ W.)

St. Lucie County International Airport, FL

(Lat. 27°29′51″ N., long. 80°22′21″ W.)

That airspace extending upward from 700 feet above the surface within a 6.7-mile radius of the Vero Beach Airport and within 4 miles north and 8 miles south of the Vero Beach VORTAC 296° radial, extending from the 6.7-mile radius to 16 miles northwest of the VORTAC and within a 7-mile radius of St. Lucie County International Airport.

Issued in College Park, Georgia, on December 10, 2010.
John R. Schroeter,
Acting Manager, Operations Support Group, Eastern Service Center, Air Traffic Organization.

[FR Doc. 2010-31768 Filed 12-17-10; 8:45 am]

BILLING CODE 4910-13-P